DEPARTMENT OF COMMERCE

National Oceanic and Atmospheric Administration

RIN 0648-XC858

Western Pacific Fishery Management Council; Public Meetings

AGENCY: National Marine Fisheries Service (NMFS), National Oceanic and Atmospheric Administration (NOAA), Commerce.

ACTION: Notice of public meetings.

SUMMARY: The Western Pacific Fishery Management Council (Council) will hold a meeting of its Non-Commercial Fisheries Advisory Committee which may make recommendations on fishery management issues in the Western Pacific Region.

DATES: The Non-Commercial Fisheries Advisory Committee Meeting will be held on September 25-26, 2013. For specific times and agendas, see SUPPLEMENTARY INFORMATION.

ADDRESSES: The Non-Commercial Fisheries Advisory Committee will meet at the Council Office, 1164 Bishop St., Suite 1400, Honolulu, HI 96813, telephone: (808) 522-8220; and by teleconference (1-888-482-3560, Access Code: 5228220).

FOR FURTHER INFORMATION CONTACT: Kitty M. Simonds, Executive Director; telephone: (808) 522-8220.

SUPPLEMENTARY INFORMATION: In addition to the agenda items listed here, the Non-Commercial Fisheries Advisory Committee may receive reports and make recommendations on emerging fishery issues in the Western Pacific Region. A public comment period will be provided in the agenda. The order in which agenda items are addressed may change. The meetings will run as late as necessary to complete scheduled business.

Schedule and Agenda for Non-Commercial Fisheries Advisory Committee Meeting:

Wednesday, September 25, 2013, 8:30 a.m.-5 p.m.

1. Welcome and Introductions

2. Non-commercial fishery agencies in the Western Pacific

a. National Marine Fisheries Service (NMFS)

b. Western Pacific resource agencies

c. Western Pacific Regional Fishery Management Council

3. About the Non-Commercial Fisheries Advisory Committee

4. Non-commercial fisheries in the Western Pacific

a. Historical overview

b. Recreational fishing today

5. Data collection initiatives for non-commercial fishing

a. Hawaii Marine Recreational Fisheries Survey

b. Western Pacific creel surveys

c. Marine Recreational Information Program (MRIP)

i. Overview of MRIP

ii. MRIP in the Western Pacific

6. NMFS Initiatives for non-commercial fishing

7. Current issues facing non-commercial fishing in the Western Pacific

a. Pelagic Issues

b. Protected species

c. Definitions

d. Annual Catch Limits

e. Other issues

i. Area Restrictions

ii. Climate Change

iii. Coastal Marine Spatial Planning

iv. Essential Fish Habitat

v. Traditional/Indigenous Fishing

8. Round-table discussion on non-commercial fishing issues

9. Public Comment

10. Discussion and Recommendations from Day 1

Thursday, September 26, 2013, 8:30 a.m.-12 noon

11. Non-Commercial Fisheries Program and Priorities

12. Non-Commercial Fisheries Issues and Challenges

13. Redeveloping the Council Non-commercial Fisheries Program

14. Next steps

15. Other Business

16. Public Comment

17. Discussion and Recommendations from Day 2

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C 1801 et seq.

Dated: September 4, 2013.
Tracey L. Thompson,
Acting Deputy Director, Office of Sustainable Fisheries, National Marine Fisheries Service.

[FR Doc. 2013-21874 Filed 9-6-13; 8:45 am]

BILLING CODE 3510-22-P